DEPARTMENT OF ENERGY

Federal Energy Regulatory Commission

Combined Notice of Filings #2

Take notice that the Commission received the following electric rate filings:

Docket Numbers: ER25-2695-000.

Applicants: Kelso 2 Solar LLC.

Description: § 205(d) Rate Filing: Kelso 2 Solar LLC submits tariff filing per 35.1: Kelso 2 Solar LLC MBR Tariff to be effective 8/11/2025.

Filed Date: 6/27/25.

Accession Number: 20250627-5207.

Comment Date: 5 p.m. ET 7/18/25.

Docket Numbers: ER25-2696-000.

Applicants: Duke Energy Carolinas, LLC.

Description: Tariff Amendment: DEC-DEC- Notice of Termination of SA-679 to be effective 8/27/2025.

Filed Date: 6/27/25.

Accession Number: 20250627-5225.

Comment Date: 5 p.m. ET 7/18/25.

Docket Numbers: ER25-2697-000.

Applicants: Midcontinent Independent System Operator, Inc.

Description: § 205(d) Rate Filing: 2025-06-27_SA 4505 Ameren Missouri-Overton Sedalia East MPFCA to be effective 6/20/2025.

Filed Date: 6/27/25.

Accession Number: 20250627-5227.

Comment Date: 5 p.m. ET 7/18/25.

Docket Numbers: ER25-2698-000.

Applicants: Midcontinent Independent System Operator, Inc.

Description: § 205(d) Rate Filing: 2025-06-30_SA 4506 Ameren Missouri-Belleau Montgomery MPFCA to be effective 6/23/2025.

Filed Date: 6/30/25.

Accession Number: 20250630-5040.

Comment Date: 5 p.m. ET 7/21/25.

Docket Numbers: ER25-2699-000.

Applicants: Midcontinent Independent System Operator, Inc.

Description: § 205(d) Rate Filing: 2025-06-30_MRES Request for Transmission Rate Incentives to be effective 9/1/2025.

Filed Date: 6/30/25.

Accession Number: 20250630-5059.

Comment Date: 5 p.m. ET 7/21/25.

Docket Numbers: ER25-2700-000.

Applicants: Louisville Gas and Electric Company.

Description: § 205(d) Rate Filing: LGE and KU Amended and Restated Reliability Coordinator Agreement Attachment Q to be effective 9/1/2025.

Filed Date: 6/30/25.

Accession Number: 20250630-5076.

Comment Date: 5 p.m. ET 7/21/25.

Docket Numbers: ER25-2701-000.

Applicants: Vermont Transco LLC.

Description: § 205(d) Rate Filing: 2025 Annual Exhibit A Informational Filing for 1991 Transmission Agreement to be effective 6/30/2025.

Filed Date: 6/30/25.

Accession Number: 20250630-5078.

Comment Date: 5 p.m. ET 7/21/25.

Docket Numbers: ER25-2702-000.

Applicants: Indiana Michigan Power Company.

Description: § 205(d) Rate Filing: AEP submits one Facilities Agreement re: ILDSA, SA No. 1336 to be effective 9/1/2025.

Filed Date: 6/30/25.

Accession Number: 20250630-5110.

Comment Date: 5 p.m. ET 7/21/25.

Docket Numbers: ER25-2703-000.

Applicants: Alabama Power Company, Georgia Power Company, Mississippi Power Company.

Description: § 205(d) Rate Filing: Alabama Power Company submits tariff filing per 35.13(a)(2)(iii: Enon Grove Generating (IC-1254A) LGIA Filing to be effective 6/16/2025.

Filed Date: 6/30/25.

Accession Number: 20250630-5132.

Comment Date: 5 p.m. ET 7/21/25.

Docket Numbers: ER25-2704-000.

Applicants: Alabama Power Company, Georgia Power Company, Mississippi Power Company.

Description: § 205(d) Rate Filing: Alabama Power Company submits tariff filing per 35.13(a)(2)(iii: Enon Grove Generating (IC-1254B) LGIA Filing to be effective 6/16/2025.

Filed Date: 6/30/25.

Accession Number: 20250630-5133.

Comment Date: 5 p.m. ET 7/21/25.

Docket Numbers: ER25-2705-000.

Applicants: Central Maine Power Company.

Description: § 205(d) Rate Filing: Executed Wholesale Distribution Service Agreement Between CMP and MRRA to be effective 9/1/2025.

Filed Date: 6/30/25.

Accession Number: 20250630-5144.

Comment Date: 5 p.m. ET 7/21/25.

Docket Numbers: ER25-2707-000.

Applicants: Viridon Path 15 LLC.

Description: § 205(d) Rate Filing: Viridon Revised Appendix I in Path 15 Tariff Reflecting Updated TRR to be effective 8/30/2025.

Filed Date: 6/30/25.

Accession Number: 20250630-5151.

Comment Date: 5 p.m. ET 7/21/25.

Docket Numbers: ER25-2708-000.

Applicants: Midcontinent Independent System Operator, Inc.

Description: § 205(d) Rate Filing: 2025-06-30_SA 4507 Ameren Missouri-McBaine Tap Overton MPFCA to be effective 8/30/2025.

Filed Date: 6/30/25.

Accession Number: 20250630-5164.

Comment Date: 5 p.m. ET 7/21/25.

Docket Numbers: ER25-2709-000.

Applicants: ISO New England Inc., New England Power Pool Participants Committee.

Description: § 205(d) Rate Filing: ISO New England Inc. submits tariff filing per 35.13(a)(2)(iii: Rev to Update Provisions re Letter of Credit Form of Financial Assurance to be effective 9/1/2025.

Filed Date: 6/30/25.

Accession Number: 20250630-5179.

Comment Date: 5 p.m. ET 7/21/25.

Docket Numbers: ER25-2710-000.

Applicants: PJM Interconnection, L.L.C.

Description: Tariff Amendment: Notice of Cancellation of ISA, Service Agreement No. 2983; Queue No. T59 to be effective 6/1/2025.

Filed Date: 6/30/25.

Accession Number: 20250630-5209.

Comment Date: 5 p.m. ET 7/21/25.

Docket Numbers: ER25-2711-000.

Applicants: Midcontinent Independent System Operator, Inc.

Description: § 205(d) Rate Filing: 2025-06-30_Att X—DPP Milestone Refund Improvement to be effective 8/30/2025.

Filed Date: 6/30/25.

Accession Number: 20250630-5222.

Comment Date: 5 p.m. ET 7/21/25.

Docket Numbers: ER25-2712-000.

Applicants: PJM Interconnection, L.L.C.

Description: Tariff Amendment: Notice of Cancellation of ISA, Service Agreement No. 2792; Queue No. U1-066 to be effective 6/1/2025.

Filed Date: 6/30/25.

Accession Number: 20250630-5225.

Comment Date: 5 p.m. ET 7/21/25.

Take notice that the Commission received the following electric securities filings:

Docket Numbers: ES25-52-000.

Applicants: DCR Transmission, L.L.C.

Description: Application Under Section 204 of the Federal Power Act for Authorization to Issue Securities of DCR Transmission, L.L.C.

Filed Date: 6/27/25.

Accession Number: 20250627-5304.

Comment Date: 5 p.m. ET 7/18/25.

Take notice that the Commission received the following public utility holding company filings:

Docket Numbers: PH25-11-000.

Applicants: KKR & Co. Inc.

Description: KKR & Co. Inc. submits FERC-65A Notice of Change in Fact to Waiver Notification.

Filed Date: 6/27/25.

Accession Number: 20250627-5293.

Comment Date: 5 p.m. ET 7/18/25.

Take notice that the Commission received the following qualifying facility filings:

Docket Numbers: QF25-1063-000.

Applicants: UE-03000CA, LLC.

Description: Form 556 of UE-03000CA, LLC.

Filed Date: 6/30/25.

Accession Number: 20250630-5240.

Comment Date: 5 p.m. ET 7/21/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organization, Tribal members and others, access publicly available information and navigate Commission processes.

For public inquiries and assistance with making filings such as interventions, comments, or requests for rehearing, the public is encouraged to contact OPP at (202) 502-6595 or OPP@ferc.gov.

Dated: June 30, 2025.
Carlos D. Clay,
Deputy Secretary.

[FR Doc. 2025-12466 Filed 7-2-25; 8:45 am]

BILLING CODE 6717-01-P